DEPARTMENT OF THE INTERIOR

Bureau of Indian Affairs

[190A2100DD/AAKC001030/A0A501010.999900253G]

Indian Gaming; Amendment to Class III Gaming Procedures for the Mashantucket Pequot Tribe

AGENCY: Bureau of Indian Affairs, Interior.

ACTION: Notice.

SUMMARY: The notice announces Amendments to the Mashantucket Pequot Tribe Gaming Procedures.

DATES: March 25, 2019.

FOR FURTHER INFORMATION CONTACT: Ms. Paula L. Hart, Director, Office of Indian Gaming, Office of the Deputy Assistant Secretary—Policy and Economic Development, Washington, DC 20240, (202) 219-4066.

SUPPLEMENTARY INFORMATION: Under the Indian Gaming Regulatory Act (IGRA), Public Law 100-497, 25 U.S.C. 2701 et seq., upon the occurrence of certain circumstances the Secretary of the Interior (Secretary) shall issue procedures providing for the operation of Class III gaming by an Indian Tribe. On May 31, 1991, the Secretary published a Notice of Final Mashantucket Gaming Procedures (Procedures) in the Federal Register. See 56 FR 24996. On August 2, 2017, the Mashantucket Pequot Tribe (Tribe) submitted proposed amendments to the Tribe's Procedures (Procedures Amendments), along with resolutions of the Connecticut General Assembly, signed by the Governor, indicating the State of Connecticut's (State) support and approval of the Procedures Amendments, as well as proposed amendments to the Tribal-State Memorandum of Understanding (MOU Amendments). The Department did not approve or disapprove the proposed Procedures Amendments or MOU Amendments at that time.

After further consultations with the Tribe, the Assistant Secretary—Indian Affairs publishes this notice that on March 15, 2019, she approved the proposed amendments to the Tribe's Procedures. Additionally, on March 19, 2019, the Assistant Secretary—Indian Affairs approved the Tribal-State MOU dated January 13, 1993, as amended on April 30, 1993, and April 25, 1994, as well as the MOU Amendments submitted on August 2, 2017.

Dated: March 19, 2019.
Tara M. Sweeney,
Assistant Secretary—Indian Affairs.

[FR Doc. 2019-05683 Filed 3-21-19; 11:15 am]

BILLING CODE 4337-15-P